DEPARTMENT OF ENERGY

Federal Energy Regulatory Commission

Notice of Commission Staff Attendance at MISO Meetings

The Federal Energy Regulatory Commission (Commission) hereby gives notice that Commission staff may attend the following MISO-related meetings:

• Advisory Committee

○ September 14, 10:15 a.m.-3 p.m., St. Paul Hotel, 350 Market Street, St. Paul, MN

• Board of Directors Audit & Finance Committee

○ September 14, 3:45 p.m.-5 p.m., St. Paul Hotel, 350 Market Street, St. Paul, MN

• Board of Directors

○ September 15, 8:30 a.m.-12 noon, St. Paul Hotel, 350 Market Street, St. Paul, MN

• Board of Directors Markets Committee

○ September 13, 9 a.m.-12 noon, St. Paul Hotel, 350 Market Street, St. Paul, MN

• Board of Directors Corporate Governance and Strategic Planning Committee

○ September 13, 11:15 a.m.-1 p.m., St. Paul Hotel, 350 Market Street, St. Paul, MN

Unless otherwise noted all of the meetings above will be held at either:

Carmel, MISO Headquarters, 701 City Center Drive, 720 City Center Drive, and Carmel, IN 46032.

Little Rock, 1700 Centerview Drive, Little Rock, AR.

Eagan, 2985 Ames Crossing Rd., Eagan, MN.

Metarie, 3850 N. Causeway Blvd., Suite 442 Metairie, LA.

Further information and dial in instructions may be found at www.misoenergy.org. All times are Local Prevailing Time.

The above-referenced meetings are open to the public.

The discussions at each of the meetings described above may address matters at issue in the following proceedings:

Docket No. ER11-4081, Midwest Independent Transmission System Operator, Inc.

Docket No. ER12-678, Midwest Independent Transmission System Operator, Inc.

Docket No. ER12-2302, Midwest Independent Transmission System Operator, Inc.

Docket No. ER13-187, Midwest Independent Transmission System Operator, Inc.

Docket No. ER13-186, Midwest Independent Transmission System Operator, Inc.

Docket No. ER13-101, Midwest Independent Transmission System Operator, Inc.

Docket No. ER13-89, MidAmerican Energy Company

Docket No. ER12-1266, Midwest Independent Transmission System Operator, Inc.

Docket No. ER12-1265, Midwest Independent Transmission System Operator, Inc.

Docket No. ER13-1924, Midcontinent Independent System Operator, Inc.

Docket No. ER13-1943, Midcontinent Independent System Operator, Inc.

Docket No. ER13-1944, Midcontinent Independent System Operator, Inc.

Docket No. ER13-1945, Midcontinent Independent System Operator, Inc.

Docket No. EL13-88, Northern Indiana Public Service Corp. v Midcontinent Independent System Operator, Inc., et al.

Docket No. EL14-12, ABATE et al. v Midcontinent Independent System Operator, Inc., et al.

Docket No. AD12-16, Capacity Deliverability across the MISO/PJM Seam

Docket No. AD14-3, Coordination of Energy and Capacity across the MISO/PJM Seam

Docket No. ER13-1938, Midcontinent Independent System Operator, Inc.

Docket No. ER14-1736, Midcontinent Independent System Operator, Inc.

Docket No. ER14-2445, Midcontinent Independent System Operator, Inc.

Docket No. ER15-133, Midcontinent Independent System Operator, Inc.

Docket No. ER15-530, Midcontinent Independent System Operator, Inc.

Docket No. ER15-767, Midcontinent Independent System Operator, Inc.

Docket No. ER15-945, Midcontinent Independent System Operator, Inc.

Docket No. ER09-1431, Midwest Independent Transmission System Operator, Inc.

Docket No. ER11-2275, Midwest Independent Transmission System Operator, Inc.

Docket No. ER11-3279, Midwest Independent Transmission System Operator, Inc.

Docket No. ER12-1194, Midwest Independent Transmission System Operator, Inc.

Docket No. ER15-1210, Midcontinent Independent System Operator, Inc.

Docket No. ER13-1938, Midcontinent Independent System Operator, Inc.

Docket No. ER14-649, Midcontinent Independent System Operator, Inc.

Docket No. ER14-2952, Midcontinent Independent System Operator, Inc.

Docket No. ER14-2605, Midcontinent Independent System Operator, Inc.

Docket No. ER14-1210, Midcontinent Independent System Operator, Inc.

Docket No. ER15-943, Midcontinent Independent System Operator, Inc.

Docket No. ER16-469, Midcontinent Independent System Operator, Inc.

Docket No. ER15-2657, Midcontinent Independent System Operator, Inc.

Docket No. ER16-533, Midcontinent Independent System Operator, Inc.

Docket No. ER16-534, Midcontinent Independent System Operator, Inc.

Docket No. ER16-675, Midcontinent Independent System Operator, Inc.

Docket No. EL15-70, Public Citizen, Inc v. Midcontinent Independent System Operator, Inc.

Docket No. EL15-71, People of the State of Illinois v. Midcontinent Independent System Operator, Inc.

Docket No. EL15-72, Southwestern Electric Cooperative, Inc. v. Midcontinent Independent System Operator, Inc.

Docket No. EL15-82, Illinois Industrial Energy Consumers v. Midcontinent Independent System Operator, Inc.

Docket No. ER16-696, Midcontinent Independent System Operator, Inc.

Docket No. ER16-770, Midcontinent Independent System Operator, Inc.

Docket No. ER16-833, Midcontinent Independent System Operator, Inc.

Docket No. ER16-56, Midcontinent Independent System Operator, Inc.

Docket No. ER16-1039, Midcontinent Independent System Operator, Inc.

Docket No. ER16-1096, Midcontinent Independent System Operator, Inc.

Docket No. EL16-112, Coalition of MISO Transmission Customers v. Midcontinent Independent System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: September 8, 2016.
Kimberly D. Bose,
Secretary.

[FR Doc. 2016-22265 Filed 9-15-16; 8:45 am]

BILLING CODE 6717-01-P